DEPARTMENT OF THE INTERIOR

Fish and Wildlife Service

[FWS-R9-IA-2012- N021; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Permit No. | Applicant | Receipt of application Federal Register notice | Permit issuance date
Endangered Species
093431 | Felix Staninoha | 75 FR 12255, March 15, 2010 | April 28, 2010.
09145A | Zoological Society of San Diego | 75 FR 27814, May 18, 2010 | June 24, 2010.
13802A | Zoological Society of San Diego | 75 FR 34766, June 18, 2010 | July 28, 2010.
15360A | Earth Promise, Inc., dba Fossil Rim Wildlife Center | 75 FR 41235, July 15, 2010 | November 9, 2010.
19934A | Knoxville Zoological Gardens | 75 FR 52971, August 30, 2010 | December 1, 2010.
25258A | Denver Zoological Gardens | 75 FR 69701, November 15, 2010 | February 10, 2011.
28015A | Earl Bruno | 75 FR 78731, December 16, 2010 | February 11, 2011.
27787A | Virginia Aquarium & Marine Science Center | 76 FR 2408, January 13, 2011 | February 15, 2011.
008519 | Zoo Atlanta | 75 FR 82409, December 30, 2010 | March 1, 2011.
26030A | Drexel University, Dept. of Biology | 75 FR 69701, November 15, 2010 | February 25, 2011.
31183A | Zoological Society of Escondido, CA | 76 FR 2408, January 13, 2011 | March 10, 2011.
22077A | Texas A&M University, Schubot Exotic Bird Health Center | 75 FR 69701, November 15, 2010 | March 29, 2011.
32684A | Zoological Society of San Diego | 76 FR 12990, March 9, 2011 | May 19, 2011.
37443A | Metro Richmond Zoo | 76 FR 18239, April 1, 2011 | May 23, 2011.
013008 | 777 Ranch Inc. | 76 FR 7580, February 10, 2011 | July 11, 2011.
39083A | Endangered Species Propagation, Survival & Research Center | 76 FR 35464, June 17, 2011 | July 28, 2011.
115344 | Forrest Simpson | 76 FR 35464, June 17, 2011 | July 28, 2011.
37786A | Minnesota Zoo | 76 FR 18239, April 1, 2011 | August 11, 2011.
42831A | Saint Louis Zoo | 76 FR 36934, June 23, 2011 | August 18, 2011.
48053A | GTWT, LLC, dba Bang 57 Ranch | 76 FR 48880, August 9, 2011 | September 28, 2011.
49112A | Morani River Ranch | 76 FR 51051, August 17, 2011 | September 28, 2011.
50258A | Thomas McCarthy | 76 FR 52965, August 24, 2011 | October 18, 2011.
671993 | Albuquerque Biological Park | 76 FR 61733, October 5, 2011 | December 2, 2011.
185788 | Alexandria Zoological Park | 76 FR 61733, October 5, 2011 | December 2, 2011.
200682 | Erie Zoo | 76 FR 61733, October 5, 2011 | December 2, 2011.
679052 | Lincoln Park Zoo | 76 FR 61733, October 5, 2011 | December 2, 2011.
766088 | Rolling Hills Wildlife Adventure | 76 FR 61733, October 5, 2011 | December 2, 2011.
837068 | Yerkes Regional Primate Research Center | 76 FR 61733, October 5, 2011 | December 2, 2011.
055381 | Paula Hansen | 76 FR 66954, October 28, 2011 | December 5, 2011.
101033 | Charles Munoz | 76 FR 66954, October 28, 2011 | December 5, 2011.
56735A | Alan Ong | 76 FR 66954, October 28, 2011 | December 5, 2011.
56309A | Charles Salisbury | 76 FR 66954, October 28, 2011 | December 14, 2011.
56870A | Carson Springs Wildlife Foundation | 76 FR 66954 October 28, 2011 | December 22, 2011.
189407 | David Nesbit | 76 FR 66954 October 28, 2011 | December 2, 2011.
57930A | Newport Aquarium LLC | 76 FR 68205, November 3, 2011 | December 15, 2011.
699515 | Honolulu Zoo | 76 FR 68205, November 3, 2011 | December 6, 2011.
180804 | Laguna Vista Ranch | 76 FR 68205, November 3, 2011 | December 6, 2011.
57071A | Kevin Hudson | 76 FR 71069, November 16, 2011 | December 27, 2011.
56468A | Joseph Harrison | 76 FR 71069, November 16, 2011 | December 27, 2011.
59287A | Lloyd Douglas | 76 FR 77006, December 9, 2011 | January 12, 2012.
59495A | Jill Holstead | 76 FR 77006, December 9, 2011 | January 12, 2012.
Marine Mammals
225854 | Tom Smith, Brigham Young University | 76 FR 36934, June 23, 2011 | January 13, 2012.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2012-1303 Filed 1-23-12; 8:45 am]

BILLING CODE 4310-55-P